DEPARTMENT OF HEALTH AND HUMAN SERVICES

Agency for Toxic Substances and Disease Registry

Solicitation of Interested Persons To Serve as Special Consultants to the Community/Tribal Subcommittee of the ATSDR Board of Scientific Counselors

AGENCY: Agency for Toxic Substances and Disease Registry(ATSDR), Department of Health and Human Services (HHS).

ACTION: Notice.

SUMMARY: This notice announces ATSDR's intent to fill 2 special consultant vacancies on the Community/Tribal Subcommittee of ATSDR's Board of Scientific Counselors.

Background

The CTS provides the Board with input, recommendations, and advice on ATSDR's community and tribal community involvement practices, programs, and policies from community/tribal members who live near hazardous waste sites or are otherwise affected by hazardous substances in the community environment. The Subcommittee was established, at the request of the Assistant Administrator, ATSDR, to provide the agency, through its Board of Scientific Counselors, (BSC) with a formal vehicle for citizen input.

FOR FURTHER INFORMATION CONTACT: To express interest in serving as a special consultant and obtain additional information, contact: Ruby Palmer, Designated Federal Official, CT/S ATSDR (E-54), 1600 Clifton Road, NE, Atlanta, GA 30033 Toll-free 1-888-422-8737.

SUPPLEMENTARY INFORMATION: ATSDR conducts public health-related activities at hazardous waste sites and releases, pursuant to the Comprehensive Environmental Response, Compensation, and Liability Act (CERCLA or Superfund) (42 U.S.C. 9601 et seq.). ATSDR established a BSC which is chartered under the Federal Advisory Committee Act (5 U.S.C. app.). In 1994, the chair of the BSC, ATSDR, selected three community/tribal representatives as consultants to ensure that its deliberations included the views of community and tribal members who live around Superfund and other hazardous waste sites and are representatives of groups that work at local, regional, or national locations with these affected communities. To supplement the work of these consultants, nine additional community/tribal representatives were added.

Four members of the BSC serve on this Subcommittee, one of which is appointed as chair. The Community/Tribal Subcommittee's (CTS) objective is to provide the BSC, ATSDR, with the views and recommendations of community/tribal representatives on ATSDR's community involvement programs, practices, policies, and other relevant issues impacting communities and tribes who live near Superfund and hazardous waste sites. The Subcommittee reviews ATSDR's community involvement programs, and policies; provides advice, findings, and recommendations to the Board on these issues; and bring broad-based community/tribal involvement issues to the attention of the Board.

The Community and Tribal Subcommittee presents its findings, advice, and recommendations to the full Board. The BSC will discuss and review reports of the Subcommittee and may forward recommendations to the Agency for action. The Community/ Tribal Subcommittee will periodically meet and/or hold conference calls.

A group consisting of special consultants, the CTS Chair and the Designated Federal Offficial will review the applications and develop a short list to be recommended to the Agency for consideration. The Agency, in consultation with the BSC chair will then select the two community representatives to fill the vacancies, with special consideration given to the recommended slate.

Accordingly, any person who lives in a community affected by an National Priority List or other hazardous waste site; who is a representative of a group that works at local, regional, or national locations with these communities; or who wishes to be considered for serving as a special consultant on this Subcommittee should write or call the ATSDR contact person listed above to obtain additional information.

Application: Please complete the following application and return it to the address listed by Monday, April 2, 2001.

The Director, Management Analysis and Services Office, has been delegated the authority to sign Federal Register notices pertaining to announcements of meetings and other committee management activities for both CDC and ATSDR.

Dated: March 21, 2001.
John Burckhardt,
Acting Director, Management Analysis and Services Office, Centers for Disease Control and Prevention.

Application

Community and Tribal Subcommittee

Agency for Toxic Substances and Disease Registry (ATSDR)

March 1, 2001.

Please answer the following questions (as legibly as possible to ensure that photocopies of it are readable) by Monday, April 2, 2001. Please send to: Ruby Palmer, Phone: Toll-free 1-888-422-8737, Designated Federal Official, CT/S Fax: (404) 639-4699, ATSDR (E-54) 1600 Clifton Road, NE Atlanta, GA 30033.

Name:

Street Address:

City, State, Zip:

Telephone:

Fax:

E-mail:

Employment and employer(s) for last five years:

Please check the corresponding box for your response to the following questions; please keep any written responses brief.

(1) Do you live in a community or on a reservation that contains a site contaminated with toxic substances or are you a member of an organization that works on environmental health/toxic substance issues with such affected communities/tribes? (Check all that apply)

___Yes, live in such a community/reservation

___Yes, member of such an organization

___No

If you checked no, please skip to question #9. ATSDR Community and Tribal Subcommittee Application, continued:

(2) What type of site is it?

___National Priorities List (Superfund NPL)

___Department of Energy

___Department of Defense

___State

___Not sure/don't know

Other___

(3) What is the status of site cleanup?

___Cleanup underway

___No work done

___Cleanup completed

___Not sure/don't know

(4) How would you characterize your community/tribe?

___Rural

___Suburban

___Urban

___Tribal Lands

___Not sure/ don't know

(5) How would you characterize the racial/ethnic makeup of your community/tribe?

___White

___African-American

___Hispanic

___Asian

___Native American

___Mixed/no group predominate

___Not sure/don't know

(6) How would you characterize the economic status of your community/tribe?

___Lower income

___Middle income

___Upper income

___Not sure/don't know

(7) Do you believe your personal/family health has been harmed due to exposure to toxic substances in the environment?

___Yes

___Possibly

___No

(7a) If you are a Tribal member, is contamination of traditional food supply thought to be a problem?

___Yes

___Possibly

___No

ATSDR Community and Tribal Subcommittee Application, continued:

(8) Are you a member of a community/tribal organization focused on the site?

___Yes

___No

(8a) If yes, please describe

.

(9) Are you familiar with the Agency for Toxic Substances and Disease Registry (ATSDR)?

___Yes

___No

(10) Have you either sought assistance from, or previously been involved with ATSDR?

___Yes

___No

(11) As ATSDR sponsored a health assessment or health study in your community?

___Yes

___No

___Not sure/don't know

(12) Have you attended other national or regional ATSDR meetings in the last 5 years?

___Yes

___No

(13) Are you a member of an organization—other than the one you may have noted in question 8—focused on toxic substances/environmental health?

___Yes

___No

(13a) If yes, what is the scope of the organization?

___Local

___Regional

___National

(13b) Please describe the organization

(14) How many years have you been involved in toxic substance/environmental health issues?

___Years

(15) How many hours per month on average can you make available for telephone calls, periodic meetings, and review of materials?

___Hours per month

(16) Have you in the past or are you now participating in an advisory group similar in structure to the Community/Tribal Subcommittee?

___Yes

___No

(16a) If yes, please describe the group and your role.

.

(17) Qualifications/Background: Please briefly note your knowledge of/ experience with toxic substance/environmental health issues. List relevant self-education/research, workshops attended, and/or formal training.

(18) Current Issues: What are your views on ATSDR's current approach to working with communities/tribes?

(19) Expectations: What type of input, recommendations, and advice do you envision the Subcommittee providing, and what type of outreach would you intend o do in order to formulate your recommendations to the Board of Scientific Counselors?

[FR Doc. 01-7493 Filed 3-26-01; 8:45 am]

BILLING CODE 4163-70-P